NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by November 22, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Permit Application No. 2011-021.

Ms. Rebecca M. Dickhut, Virginia Institute of Marine Sciences, Gloucester Point, VA 23062.

Activity for Which Permit Is Requested

Import into the U.S.A. The applicant plans to import frozen seabird tissue samples, collected by other researchers, for use in experiments back at the institutions laboratories. The applicant hopes to receive tissue samples from Adelie, Gentoo, Chinstrap, and Emperor penguins and Southern Giant Petrels. The samples will be used to: (a) Trace the movement of persistent organic pollutants (POPs) stored in glacier ice into the Antarctica marine food web, and (b) provide insight into the dietary preferences and feeding ecology of Antarctic seabirds. The research will provide an understanding of the potential coupling between global climate change and mobilization of glacier reservoirs of contaminants, and is likely to serve as a case study for understanding the potential future impact of contaminants store din glaciers on regional aquatic ecosystems.

Location

Western Antarctica.

Dates

January 1, 2011 to December 31, 2012.

Nadene G. Kennedy,
Permit Officer, Office of Polar Programs.

[FR Doc. 2010-26472 Filed 10-20-10; 8:45 am]

BILLING CODE 7555-01-P